SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before July 23, 2007.

ADDRESSES: Send all comments regarding whether this information collection is necessary for the proper performance of the function of the agency, whether the burden estimates are accurate, and if there are ways to minimize the estimated burden and enhance the quality of the collection, to Teresa Lewis, Assistant Administrator, Office of Management and Technical Assistance Small Business Administration, 409 3rd Street, SW., 8th Floor, Wash., DC 20416.

FOR FURTHER INFORMATION CONTACT: Teresa Lewis, Assistant Administrator, Office of Management and Technical Assistance 202-619-1624 teresa.lewis@sba.gov. Curtis B. Rich, Management Analyst, 202-205-7030 curtis.rich@sba.gov.

SUPPLEMENTARY INFORMATION: Title: “Small Business Administration Application for Certificate of Competency.”

Description of Respondents: Small Business Owners.

Form No: 1531.

Annual Responses: 300.

Annual Burden: 2,400.

ADDRESSES: Send all comments regarding whether this information collection is necessary for the proper performance of the function of the agency, whether the burden estimates are accurate, and if there are ways to minimize the estimated burden and enhance the quality of the collection, to Carol Fendler, System Accountant, Investment Division Small Business Administration, 409 3rd Street, SW., 6th Floor, Wash., DC 20416.

FOR FURTHER INFORMATION CONTACT: Carol Fendler, System Accountant, Investment Division 202-205-7559 carol.fendler@sba.gov Curtis B. Rich, Management Analyst, 202-205-7030 curtis.rich@sba.gov.

SUPPLEMENTARY INFORMATION: Title: “SBIC Financial Reports.”

Description of Respondents: Small Business Investment Companies.

Form No's: 468, 468.1, 468.2, 468.3, 468.4.

Annual Responses: 1,265.

Annual Burden: 19,855.

Title: “Portfolio Financing Report.”

Description of Respondents: Small Business Investment Companies.

Form No: 1031.

Annual Responses: 4,000.

Annual Burden: 800.

Title: “Financing Eligibility Statement—Social Disadvantage/Economic Disadvantage.”

Description of Respondents: Small Business seeking financing from specialized Small Business Investment Companies (SSBIC).

Form No's: 1941A, 1941B, 1941C.

Annual Responses: 190.

Annual Burden: 380.

Jacqueline White,
Chief, Administrative Information Branch.

[FR Doc. E7-9905 Filed 5-22-07; 8:45 am]

BILLING CODE 8025-01-P